DEPARTMENT OF THE INTERIOR

Bureau of Reclamation

Walker River Basin Acquisition Program Draft Environmental Impact Statement (EIS), Nevada

AGENCY: Bureau of Reclamation, Interior.

ACTION: Reopening of comment period for review of the Draft Environmental Impact Statement (DEIS).

SUMMARY: The Bureau of Reclamation is reopening the comment period for the DEIS to Monday, October 5, 2009. The notice of availability of the DEIS was published in the Federal Register on July 24, 2009 (74 FR 36737). The public review period ended on September 14, 2009.

DATES: Written comments on the DEIS will be accepted on or before October 5, 2009.

ADDRESSES: Send written comments on the DEIS to Mrs. Caryn Huntt DeCarlo, Bureau of Reclamation, 705 N Plaza, Room 320, Carson City, NV 89701 or e-mail to chunttdecarlo@usbr.gov.

Copies of the DEIS may be requested from Mrs. Caryn Huntt DeCarlo by writing to Bureau of Reclamation, 705 N Plaza, Room 320, Carson City, NV 89701; by calling 775-884-8352, or e-mail chunttdecarlo@usbr.gov.

The DEIS is also accessible from the following Web site: http://www.usbr.gov/mp/nepa/nepa_projdetails.cfm?Project_ID=2810. See SUPPLEMENTARY INFORMATION section for locations where copies of the DEIS are available for public review.

FOR FURTHER INFORMATION CONTACT: Mrs. Caryn Huntt DeCarlo, Bureau of Reclamation, at 775-884-8352, or e-mail chunttdecarlo@usbr.gov.

SUPPLEMENTARY INFORMATION: Due to public interest, Reclamation is reopening the comment period until October 5, 2009. All comments received prior to October 5, 2009 will be considered.

Copies of the DEIS are available for public review at the following locations:

• Bureau of Reclamation, Denver Office Library, Building 67, Room 167, Denver Federal Center, 6th and Kipling, Denver, CO 80225.

• Natural Resources Library, U.S. Department of the Interior, 1849 C Street, NW., Main Interior Building, Washington, DC 20240-0001.

• Bureau of Reclamation, Mid-Pacific Regional Office Library, 2800 Cottage Way, W-1825, Sacramento, CA 95825-1898.

• Bureau of Reclamation, Lahontan Basin Area Office, 705 N Plaza, Room 320, NV 89701.

• Lyon County Library—Smith Valley, 32 Day Lane, Smith Valley, NV 89444-0156.

• Lyon County Library -Yerington, 20 Nevin Way, Yerington, NV 89447.

• Mineral County Library—Hawthorne, P.O. Box 1390, Hawthorne, NV 89415.

• Walker River Paiute Tribe—P.O. Box 220, Schurz, NV 89427.

• Yerington Paiute Tribe—171 Campbell Lane, Yerington, NV 89447.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: September 3, 2009.
Mike Chotkowski,
Regional Environmental Officer, Mid-Pacific Region.

[FR Doc. E9-22884 Filed 9-22-09; 8:45 am]

BILLING CODE 4310-MN-P